DEPARTMENT OF ENERGY

Federal Energy Regulatory Commission

[Project Nos. 12688-000, 12689-000, 12690-000, and 12692-000]

Public Utility District No. 1 of Snohomish County, WA; Notice Granting Late Intervention

November 16, 2006.

On June 22, 2006, the Commission issued a notice in each above-captioned proceeding of the preliminary permit application filed by Public Utility District No. 1 of Snohomish County, Washington, in the proceeding.¹ The notices established August 21, 2006, as the deadline for filing motions to intervene.

¹ The applications seek separate preliminary permits for: (1) The Rich Passage Tidal Energy Project No. 12688, to be located in Rich Passage in Puget Sound, Kitsap County, Washington; (2) the Spieden Channel Tidal Energy Project No. 12689, to be located in Spieden Channel in San Juan County, Washington; (3) the Admiralty Inlet Tidal Energy Project No. 12690, to be located in Admiralty Inlet in Jefferson, Kitsap, and Island Counties, Washington; and (4) the San Juan Channel Tidal Energy Project No. 12692, to be located in San Juan Channel in San Juan County, Washington.

On August 23 and 28, 2006, respectively, the Tulalip Tribes and the Whidbey Environmental Action Network filed late motions to intervene in the proceedings. Granting the motions to intervene will not unduly delay or disrupt the proceedings, or prejudice other parties to them. Therefore, pursuant to Rule 214,² the motions to intervene filed by the Tulalip Tribes and Whidbey Environmental Action Network are granted, subject to the Commission's rules and regulations.

² 18 CFR 385.214 (2006).

Magalie R. Salas,
Secretary.

[FR Doc. E6-19924 Filed 11-24-06; 8:45 am]

BILLING CODE 6717-01-P